DEPARTMENT OF THE INTERIOR

Fish and Wildlife Service

[FWS-R7-R-2016-N099; FF07RKDK00-FVRS80810700000-XXX]

Information Collection Request Sent to the Office of Management and Budget (OMB) for Approval; Kodiak National Wildlife Refuge Bear Viewing Survey

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before July 11, 2016.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-Kodiak bear viewing” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-XXXX.

Title: Kodiak National Wildlife Refuge Bear Viewing Survey.

Service Form Number: None.

Type of Request: Request for a new OMB control number.

Description of Respondents: Visitors to Kodiak National Wildlife Refuge who come for the purpose of viewing bears.

Respondent's Obligation: Voluntary.

Frequency of Collection: One time.

Activity | Number of responses | Completion time per response (minutes) | Total annual burden hours
Initial Contact | 1,520 | 2 | 51
Online Survey | 730 | 15 | 183
Totals | 2,250 |  | 234

Estimated Annual Nonhour Burden Cost: None.

Abstract: The Kodiak National Wildlife Refuge has partnered with Utah State University to conduct a public survey of visitors to the Kodiak National Wildlife Refuge who participate in bear viewing at structured and unstructured sites. Questions will address logistical aspects of bear viewing (including the amount of money visitors are willing to spend on viewing and amenities), satisfaction with current experiences (based on number of bears, density of other visitors, length of stay, and education received), and reported changes in attitudes and behavior related to bear conservation based on visitors' experiences on the refuge. Survey results are crucial to understanding public demands for and expectations for bear viewing, so that the refuge can better facilitate bear viewing opportunities and better convey educational messages on bear management.

Comments Received and Our Responses

On November 3, 2015, we published in the Federal Register (80 FR 67784) a notice of our intent to request that OMB approve this information collection. In that notice, we solicited comments for 60 days, ending on January 4, 2016. We received two comments in response to that notice.

Comment: The first comment from an individual protested the entire survey and stated that the national survey conducted across the country every 5 years already contributes to Government overreach and misspending of tax dollars without preserving wildlife.

Response: The National Survey of Fishing, Hunting, and Wildlife-Associated recreation, conducted every 5 years, does not address the Kodiak-specific questions of this study. The proposed study will provide information that allows Kodiak Refuge Management to make informed decisions on how to facilitate bear viewing in a way that protects bear populations while creating positive educational experiences for visitors.

Comment: The second comment from the State of Alaska's Alaska National Interest Lands Conservation Act (ANILCA) Implementation Program generally supported the proposed information collection to better inform decisionmakers and rejuvenate quality bear viewing on the refuge. The commenter made three suggestions:

• Consult with the Alaska Department of Fish and Game and other stakeholders in the development of the survey.

• Consider surveying all refuge visitors rather than just bear viewers to provide a more holistic view of refuge usage.

• Conduct the survey onsite for higher response rates and more accurate recall among participants.

Response: We thank the ANILCA Implementation Program for their comments. Throughout survey development, we conducted interviews with stakeholders to address key concerns and issues to be addressed in the survey. This included the Alaska Department of Fish and Game area biologist for the Kodiak Archipelago, the Kodiak Brown Bear Center (owned and operated by the Koniag Native Corporation), and commercial air taxi operators and guides. We sincerely appreciate the insights from all of these groups. Unfortunately, surveying all refuge visitors is not within financial and time feasibility of the current study. While hunting and fishing patterns are well understood due to the purchase of licenses and close regulation in partnership with the State of Alaska, an equally detailed understanding of bear viewing activity and satisfaction is lacking, making it the current priority for social science research. Finally, the primary survey is being conducted online instead of onsite due to affordability, logistics (weather on Kodiak is often not conducive to sitting outside for 10-20 minutes to complete a printed survey in wind and rain), and proven success with past online surveys. Our intent is to minimize onsite burden hours for visitors traveling from around the world for expensive and sometimes short viewing experiences.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: June 7, 2016.
Tina A. Campbell,
Chief, Division of Policy, Performance, and Management Programs, U.S. Fish and Wildlife Service.

[FR Doc. 2016-13750 Filed 6-9-16; 8:45 am]

BILLING CODE 4333-15-P